DEPARTMENT OF JUSTICE

Notice of Lodging of Consent Decree Under the Clean Air Act

Notice is hereby given that on August 13, 2008, a proposed Consent Decree (the “Decree”) in United States v. Allied Waste Services of Massachusetts, LLC, Civil Action No. 08-11382, was lodged with the United States District Court for the District of New Jersey.

In a complaint, filed simultaneously with the Decree, the United States alleges that Allied Waste Services of Massachusetts, LLC (“Allied Waste”) violated the Clean Air Act, 42 U.S.C. 7401 et seq., at four of its waste-hauling depots in western Massachusetts by allowing some of its diesel waste-hauling trucks to idle in excess of five minutes, as prescribed by 30 CMR 7.11(b), a regulation included in the Massachusetts State Implementation Plan.

Pursuant to the Decree, Allied will implement a number of compliance measures, including: Requiring a supervisor to walk-through the four depots where violations were found (“subject facilities”) twice a day to identify and rectify illegal idling; the implementation of a driver training program that highlights Allied Waste's anti-idling policy; the inclusion of the anti-idling policy as part of the subject facilities' daily debriefing checklist to be reviewed with each driver of a waste-hauling truck at the end of their route; the posting of “No Idling” signs at the subject facilities; and the certification by Allied Waste that all trucks equipped with automatic engine shut-offs are working and set to turnoff the engine at the expiration of five minutes of idling. If Allied Waste fails to conduct the aforementioned compliance measures, or is in future violation of 30 CMR 7.11(b), it will be subject to stipulated penalties under the terms of the Decree.

Allied Waste will pay a $195,000 civil monetary penalty to the United States pursuant to the Decree.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, D.C. 20044-7611, and should refer to United States v. Allied Waste Services of Massachusetts, LLC, D.J. Ref. 90-5-2-1-09305.

The Decree may be examined at the Office of the United States Attorney, Michael J. Sullivan, District of Massachusetts, John Joseph Moakley Courthouse, 1 Courthouse Way Boston, Massachusetts 02210, and the U.S. Environmental Protection Agency, Region I, One Congress Street, Boston, Massachusetts 02114-2023. During the public comment period, the Decree may also be examined on the following Department of Justice website, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Ronald Gluck,
Assistant Chief, Environmental Enforcement Section, Environment and Natural Resources Division.

[FR Doc. E8-19341 Filed 8-20-08; 8:45 am]

BILLING CODE 4410-15-P